DEPARTMENT OF THE INTERIOR

National Park Service

[NPS-AKR-DENA-11251; 9832-0246-703]

Notice of Meeting for the Denali National Park and Preserve Aircraft Overflights Advisory Council Within the Alaska Region

AGENCY: National Park Service, Interior.

ACTION: Notice of meeting.

SUMMARY: The National Park Service (NPS) announces a meeting of the Denali National Park and Preserve Aircraft Overflights Advisory Council. The purpose of this meeting is to discuss mitigation of impacts from aircraft overflights at Denali National Park and Preserve. The Aircraft Overflights Advisory Council is authorized to operate in accordance with the provisions of the Federal Advisory Committee Act.

Public Availability of Comments: These meetings are open to the public and will have time allocated for public testimony. The public is welcome to present written or oral comments to the Aircraft Overflights Advisory Council. Each meeting will be recorded and meeting minutes will be available upon request from the park superintendent for public inspection approximately six weeks after each meeting. Before including your address, telephone number, email address, or other personal identifying information in your comment, you should be aware that your entire comment—including your personal identifying information—may be made publicly available at any time. While you can ask us in your comment to withhold your personal identifying information from public review, we cannot guarantee that we will be able to do so.

DATES: The Denali National Park and Preserve Aircraft Overflights Advisory Council meeting will be held on Friday, October 26, 2012, from 9 a.m. to 5 p.m., Alaska Standard Time. The meeting may end early if all business is completed.

Location: National Park Service, Alaska Regional Office, 240 West 5th Avenue, Room 518, Anchorage, AK 99501; Telephone (907) 644-3510.

FOR FURTHER INFORMATION CONTACT: Miriam Valentine, Denali Planning. Email: Miriam_Valentine@nps.gov; Telephone: (907) 733-9102 at Denali National Park, Talkeetna Ranger Station, P.O. Box 588, Talkeetna, AK 99676. For accessibility requirements, please call Miriam Valentine at (907) 733-9102.

SUPPLEMENTARY INFORMATION: Meeting location and dates may need to be changed based on weather or local circumstances. If the meeting dates and location are changed, notice of the new meeting will be announced on local radio stations and published in local newspapers.

Agenda

The agenda for the meetings will include the following, subject to minor adjustments:

1. Call to Order

2. Roll Call and Confirmation of Quorum

3. Chair's Welcome and Introductions

4. Review and Approve Agenda

5. Member Reports

6. Agency and Public Comments

7. Superintendent and NPS Staff Reports

8. Agency and Public Comments

9. Other New Business

10. Agency and Public Comments

11. Set Time and Place of Next Advisory Council Meeting

12. Adjournment

Joel Hard,
Deputy Regional Director, Alaska Region.

[FR Doc. 2012-24584 Filed 10-4-12; 8:45 am]

BILLING CODE 4310-PF-P